DEPARTMENT OF ENERGY

Federal Energy Regulatory Commission

[Docket No. AD18-11-000]

Reliability Technical Conference; Notice Inviting Post-Technical Conference Comments

On Tuesday, July 31, 2018, the Federal Energy Regulatory Commission convened a Commissioner-led technical conference to discuss policy issues related to the reliability of the Bulk-Power System.

All interested persons are invited to file post-technical conference comments on the topics concerning the reliability of the Bulk-Power System discussed during the technical conference, including the questions listed in the Supplemental Notices issued in this proceeding on June 1, 2018 and July 17, 2018. Attached to this notice are the electric reliability topics and questions related to each Panel. Commenters need not respond to all questions asked. Commenters should organize responses consistent with the numbering of the attached questions and identify to what extent their responses are generally applicable. Commission staff reserves the right to post additional follow-up questions related to those panels if deemed necessary. In addition, commenters are encouraged, when possible, to provide specific examples and data in support of their answers. Comments must be submitted on or before 30 days from the date of this notice and should not exceed 30 pages.

For further information about this Notice, please contact: Lodie White, Office of Electric Reliability, Federal Energy Regulatory Commission, 888 First Street NE, Washington, DC 20426, (202) 502-8453, lodie.white@ferc.gov; Robert Clark, Office of Electric Reliability, Federal Energy Regulatory Commission, 888 First Street NE, Washington, DC 20426, (202) 502-8165, robert.clark@ferc.gov.

Dated: August 9, 2018.
Nathaniel J. Davis, Sr.,
Deputy Secretary.

[FR Doc. 2018-17539 Filed 8-14-18; 8:45 am]

BILLING CODE 6717-01-P